DEPARTMENT OF DEFENSE

Department of the Army, Corps of Engineers

33 CFR Part 334

[Docket Number: COE-2022-0007]

Potomac River at the Naval Surface Warfare Center, Dahlgren Division, Dahlgren, Virginia; Danger Zone

AGENCY: U.S. Army Corps of Engineers, DoD.

ACTION: Proposed rule; reopening of comment period.

SUMMARY: On December 5, 2022, the U.S. Army Corps of Engineers (Corps) published a proposed rule to modify an existing danger zone in the waters of the Potomac River near Dahlgren, Virginia. The comment period ended on January 4, 2023. The Corps received numerous requests to extend the comment period, so we are reopening the comment period for 45 days. Comments previously submitted on the proposed rule do not need to be resubmitted, as they have already been incorporated into the administrative record and will be fully considered in the Corps' decision-making process for this rulemaking action.

DATES: The comment period for the proposed rule published at 87 FR 74346 on December 5, 2022 is reopened. Written comments must be submitted on or before April 7, 2023.

ADDRESSES: You may submit comments, identified by docket number COE-2022-0007, by any of the following methods:

Federal eRulemaking Portal: https://www.regulations.gov. Follow the instructions for submitting comments.

Email: david.b.olson@usace.army.mil. Include the docket number, COE-2022-0007 in the subject line of the message.

Mail: U.S. Army Corps of Engineers, Attn: CECW-CO-R (David B. Olson), 441 G Street NW, Washington, DC 20314-1000.

Hand Delivery/Courier: Due to security requirements, we cannot receive comments by hand delivery or courier.

Instructions: Instructions for submitting comments are provided in the proposed rule published on December 5, 2022 (87 FR 74346). Consideration will be given to all comments received by April 7, 2023.

FOR FURTHER INFORMATION CONTACT: Mr. David Olson, Headquarters, Operations and Regulatory Division, Washington, DC at 202-761-4922.

SUPPLEMENTARY INFORMATION: In the December 5, 2022, issue of the Federal Register (87 FR 74346), the Corps published a proposed rule to modify an existing danger zones in the waters of the Potomac River near Dahlgren, Virginia. The Naval Surface Warfare Center, Dahlgren Division (NSWCDD) operates research, development, testing, and evaluation ranges on the Potomac River using the danger zones as defined in the existing regulation. The purpose of this amendment is to expand the middle danger zone for ongoing infrared sensor testing for detection of airborne chemical or biological agent simulants, directed energy testing, and for operating manned or unmanned watercraft. This amendment will extend the legal authority to engage civilian watercraft for safe transit instructions in the Potomac River within the expanded middle danger zone.

The Corps has received numerous requests for an extension of the comment period for the proposed rule. The original comment period ended on January 4, 2023, and we are reopening the comment period for 45 days. Comments must be received by April 7, 2023.

Thomas P. Smith,
Chief, Operations and Regulatory Division.

[FR Doc. 2023-03527 Filed 2-17-23; 8:45 am]

BILLING CODE 3720-58-P